DEPARTMENT OF TRANSPORTATION

Federal Aviation Administration

14 CFR Part 39

[Docket No. FAA-2004-19989; Directorate Identifier 2004-NM-151-AD; Amendment 39-14037; AD 2005-07-13]

RIN 2120-AA64

Airworthiness Directives; Boeing Model 767-300 and -400ER Series Airplanes

AGENCY: Federal Aviation Administration (FAA), Department of Transportation (DOT).

ACTION: Final rule.

SUMMARY: The FAA is adopting a new airworthiness directive (AD) for certain Boeing Model 767-300 and -400ER series airplanes. This AD requires replacing the in-flight entertainment cooling card, located in the P50 card file in the main equipment center, with a new, improved cooling card. This AD is prompted by a report of an improperly designed component on the in-flight entertainment (IFE) cooling card, which may cause the IFE cooling system to incorrectly interpret signals from airplane system interfaces. We are issuing this AD to prevent failure of the IFE cooling card to configure itself correctly in response to input signals from airplane system interfaces during a forward cargo fire, which could result in the IFE cooling fan causing smoke to penetrate occupied areas of the airplane.

DATES This AD becomes effective May 12, 2005.

The incorporation by reference of certain publications listed in the AD is approved by the Director of the Federal Register as of May 12, 2005.

ADDRESSES: For service information identified in this AD, contact Boeing Commercial Airplanes, P.O. Box 3707, Seattle, Washington 98124-2207.

Docket: The AD docket contains the proposed AD, comments, and any final disposition. You can examine the AD docket on the Internet at http://dms.dot.gov, or in person at the Docket Management Facility office between 9 a.m. and 5 p.m., Monday through Friday, except Federal holidays. The Docket Management Facility Office (telephone (800) 647-5227) is located on the plaza level of the Nassif Building at the U.S. Department of Transportation, 400 Seventh Street, SW., room PL-401, Washington, DC. This docket number is FAA-2004-19989; the directorate identifier for this docket is 2004-NM-151-AD.

FOR FURTHER INFORMATION CONTACT: Clint Jones, Aerospace Engineer, Cabin Safety and Environmental Systems Branch, ANM-150S, FAA, Seattle Aircraft Certification Office, 1601 Lind Avenue, SW., Renton, Washington 98055-4056; telephone (425) 917-6471; fax (425) 917-6590.

SUPPLEMENTARY INFORMATION: The FAA proposed to amend 14 CFR Part 39 with an AD for certain Boeing Model 767-300 and -400ER series airplanes. That action, published in the Federal Register on January 5, 2005 (70 FR 725), proposed to require replacing the in-flight entertainment cooling card, located in the P50 card file in the main equipment center, with a new, improved cooling card.

Comments

We provided the public the opportunity to participate in the development of this AD. No comments have been submitted on the proposed AD or on the determination of the cost to the public.

Conclusion

We have carefully reviewed the available data and determined that air safety any the public interest require adopting the AD as proposed.

Costs of Compliance

There are about 32 airplanes of the affected design in the worldwide fleet. The following table provides the estimated costs for U.S. operators to comply with this AD.

Estimated Costs
Action | Work hours | Average labor rate per hour | Parts | Cost per airplane | Number of U.S.- registered airplanes | Fleet cost
Replacement | 1 | $65 | $9,500 | $9,565 | 16 | $153,040

Authority for This Rulemaking

Title 49 of the United States Code specifies the FAA's authority to issue rules on aviation safety. Subtitle I, Section 106, describes the authority of the FAA Administrator. Subtitle VII, Aviation programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD;

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air Transportation, Aircraft, Aviation safety, Incorporation by reference, Safety.

Adoption of the amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 3913 [Amended]

2. The FAA amends § 39.13 by adding the following new airworthiness directive (AD):

2005-07-13 Boeing: Amendment 39-14037. Docket No. FAA-2004-19989; Directorate Identifier 2004-NM-151-AD.

Effective Date

(a) This AD becomes effective May 12, 2005.

Affected ADs

(b) None.

Applicability

(c) This AD applies to Boeing Model 767-300 series airplanes as listed in Boeing Special Attention Service Bulletin 767-21-0188, dated May 27, 2004; and Boeing Model 767-400ER series airplanes, as listed in Boeing Special Attention Service Bulletin 767-21-0189, dated May 27, 2004; certificated in any category.

Unsafe Condition

(d) This AD was prompted by a report of an improperly designed component on the in-flight entertainment (IFE) cooling card, which may cause the IFE cooling system to incorrectly interpret signals from airplane system interfaces. We are issuing this AD to prevent failure of the IFE cooling cared to configure correctly in response to input signals from airplane system interfaces during a forward cargo fire, which could result in the IFE cooling fan causing smoke to penetrate occupied areas of the airplane.

Compliance

(e) You are responsible for having the actions required by this AD performed within the compliance times specified, unless the actions have already been done.

Replacement of IFE Cooling Card

(f) Within 18 months after the effective date of this AD: Replace the IFE cooling card, part number (P/N) 285T1198-101, located in the P50 card file in the main equipment center, with a new, improved cooling card, P/N 285T1198-102. Do the replacement by accomplishing all of the actions specified in the Accomplishment Instructions of Boeing Special Attention Service Bulletin 767-21-0189 (for Boeing Model 767-400ER series airplanes); or 767-21-0189 (for Boeing Model 767-400ER series airplanes); both dated May 27, 2004; as applicable. Where the service bulletins state that the replacement may be done using an “operator's equivalent procedure,” the replacement must be done according to the procedures in the chapter/subject of the applicable Boeing 767 Airplane Maintenance Manual specified in the service bulletins.

Parts Installation

(g) As of the effective date of this AD, no person may install an IFE cooling card, P/N 285T1198-101, on any airplane.

Alternative Methods of Compliance (AMOCs)

(h) The Manager, Seattle Aircraft Certification Office, FAA, has the authority to approve AMOCs for this Ad, if requested in accordance with the procedures found in 14 CFR 39.19.

Material Incorporated by Reference

(i) You must use Boeing Special Attention Service Bulletin 767-21-0188, dated May 27, 2004; or Boeing Special Attention Service bulletin 767-21-0189, dated May 27, 2004; as applicable, to perform the actions that are required by this AD, unless the AD specifies otherwise. The Director of the Federal Register approves the incorporation by reference of these documents in accordance with 5 U.S.C. 552(a) and 1 CFR part 51. For copies of the service information, contact Boeing Commercial Airplanes, P.O. Box 3707, Seattle, Washington 98124-2207. You may view the AD docket at the Docket management Facility, U.S. Department of Transportation, 400 Seventh Street SW., room PL-401, Nassif Building, Washington, DC. To review copies of the service information, go to the National Archives and Records Administration (NARA). For information on the availability of this material at NARA, call (202) 741-6030, or go to: http://www.archieves.gov/federal register/code_of_federal_regulations/ibr_locations.html.

Issued in Renton, Washington, on March 25, 2005.
Ali Bahrami,
Manager, Transport Airplane Directorate, Aircraft Certification Service.

[FR Doc. 05-6689 Filed 4-6-05; 8:45 am]

BILLING CODE 4910-13-M